DEPARTMENT OF TRANSPORTATION

National Highway Traffic Safety Administration

[Docket No. NHTSA-2008-0103; Notice 2]

Chrysler, LLC, Grant of Petition for Decision of Inconsequential Noncompliance

Chrysler, LLC (Chrysler) has determined that certain vehicles that it manufactured during the period of March 14, 2006 through March 20, 2008, do not fully comply with paragraph S4.3 of 49 CFR 571.110 (Federal Motor Vehicle Safety Standard (FMVSS) No. 110 Tire Selection and Rims for Motor Vehicles With a GVWR of 4,536 Kilograms (10,000 Pounds) or Less). Chrysler has filed an appropriate report pursuant to 49 CFR Part 573, Defect and Noncompliance Responsibility and Reports.

Pursuant to 49 U.S.C. 30118(d) and 30120(h) and the rule implementing those provisions at 49 CFR part 556, Chrysler has petitioned for an exemption from the notification and remedy requirements of 49 U.S.C. Chapter 301 on the basis that this noncompliance is inconsequential to motor vehicle safety. Notice of receipt of the petition was published, with a 30-day public comment period, on June 5, 2008 in the Federal Register (73 FR 32076). No comments were received. To view the petition and all supporting documents log onto the Federal Docket Management System Web site at: http://www.regulations.gov/. Then follow the online search instructions to locate docket number “NHTSA-2008-0103.”

For further information on this decision, contact Mr. John Finneran, Office of Vehicle Safety Compliance, the National Highway Traffic Safety Administration (NHTSA), telephone (202) 366-0645, facsimile (202) 366-7097.

Affected are approximately 1,886 model year 2007-2008 Jeep Wrangler right-hand drive (RHD) multipurpose passenger vehicles (MPV).

Paragraph S4.3 of 49 CFR 571.110 requires in pertinent part that:

S4.3 Placard. Each vehicle, except for a trailer or incomplete vehicle, shall show the information specified in S4.3 (a) through (g), and may show, at the manufacturer's option, the information specified in S4.3 (h) and (i), on a placard permanently affixed to the driver's side B-pillar. In each vehicle without a driver's side B-pillar and with two doors on the driver's side of the vehicle opening in opposite directions, the placard shall be affixed on the forward edge of the rear side door. If the above locations do not permit the affixing of a placard that is legible, visible and prominent, the placard shall be permanently affixed to the rear edge of the driver's side door. If this location does not permit the affixing of a placard that is legible, visible and prominent, the placard shall be affixed to the inward facing surface of the vehicle next to the driver's seating position. This information shall be in the English language and conform in color and format, not including the border surrounding the entire placard, as shown in the example set forth in Figure 1 in this standard. At the manufacturer's option, the information specified in S4.3 (c), (d), and, as appropriate, (h) and (i) may be shown, alternatively to being shown on the placard, on a tire inflation pressure label which must conform in color and format, not including the border surrounding the entire label, as shown in the example set forth in Figure 2 in this standard. The label shall be permanently affixed and proximate to the placard required by this paragraph. The information specified in S4.3 (e) shall be shown on both the vehicle placard and on the tire inflation pressure label (if such a label is affixed to provide the information specified in S4.3 (c), (d), and, as appropriate, (h) and (i)) and may be shown in the format and color scheme set forth in Figures 1 and 2.

Chrysler stated that the noncompliance is that the required placard was installed on the passenger's side (left side) door on each of the subject RHD vehicles, rather than on the driver's side (right side) door.

Chrysler explains that the subject vehicles were sold primarily for use by rural postal carriers, since RHD makes it easier for the carriers to access mailboxes located along the right side of the roadway. The relevant portion of S4.3 of FMVSS No. 110, entitled “Placard,” provides as follows: “Each vehicle, except for a trailer or incomplete vehicle, shall show the information specified in S4.3(a) through (g) * * * on a placard permanently affixed to the driver's side B-pillar. In each vehicle without a driver's side B-pillar and with two doors on the driver's side of the vehicle opening in opposite directions, the placard shall be affixed on the forward edge of the rear side door. If the above locations do not permit the affixing of a placard that is legible, visible and prominent, the placard shall be permanently affixed to the rear edge of the driver's side door.”

Chrysler further explained that the subject vehicles have placards that contain all of the tire and vehicle loading information required by the various subsections of S4.3. However, because of an inadvertent failure of the assembly plant work instructions to differentiate between RHD and left hand drive (LHD) vehicles in this respect, the placards were inadvertently affixed to the rear edge of the door on the left (passenger) side of the subject vehicles, as opposed to the driver's side door. (Chrysler notes that the subject vehicles do not have a B-pillar with a flat surface that would permit the affixing of a placard that is “legible, visible, and prominent.”)

Chrysler states its belief that the fact that the placard required by paragraph S4.3 of the standard was affixed to the left hand door of these RHD vehicles—as opposed to the driver's side door—creates absolutely no risk to motor vehicle safety. All of the relevant tire and loading information is set forth on the placard, and therefore it is readily available to vehicle operators. Moreover, the placard is located at the place where United States drivers are used to looking for it.

Chrysler also states its belief that the operators of the subject vehicles will have almost certainly owned and driven conventional LHD vehicles, so they will have had experience in locating the tire and load information on the left side of their vehicles. And in the extremely unlikely event that an owner has difficulty locating the placard, the owner's manual provided with the subject vehicles shows the location of the placard on the left side door.

Chrysler also makes reference to several previous inconsequential noncompliance grant decisions, involving the omission of rim data on tire labels, which in its opinion, are similar to the instant one.

Chrysler also notes that it has not received any consumer complaints regarding an inability to locate the placard or an unawareness of the relevant tire and loading information.

In addition, Chrysler states that it has corrected the problem that caused these errors so that they will not be repeated in future production and that it believes that because the noncompliance is inconsequential to motor vehicle safety that no corrective action is warranted.

NHTSA Decision

By way of background, the Transportation Recall, Enhancement, Accountability, and Documentation (TREAD) Act (Pub. L. 106-414) required, among other things, that the agency initiate rulemaking to improve consumer awareness of tire inflation pressure and load limit information. In 2001, as part of a proposed update to FMVSS No. 110, NHTSA proposed in a Notice of Proposed Rulemaking (NPRM) that “A standard location for tire information placards would contribute to consumer awareness of recommended tire inflation pressure and load limits by providing a consistent and predictable place for this information.” ¹ In the subsequent final rule, the location required for the consistent and predictable location of the labeling information is one of three locations allowed on the driver's-side of the vehicle.

¹ See 66 FR 6555, December 19, 2001.

NHTSA agrees with Chrysler that this noncompliance will not have an adverse effect on vehicle safety. In the agency's judgment, most consumers in the United States are accustomed to left-hand drive (LHD) vehicles, with tire inflation pressure and load limit information labeling located on the left-hand side of the vehicle. Not locating the labeling on the driver's-side (right-hand side) for the subject RHD vehicles will not appreciably interfere with customer awareness of recommended tire inflation pressures and load limits. The agency agrees with Chrysler's statement that it is extremely unlikely an owner will have difficulty locating the placard in this case.

In consideration of the foregoing, NHTSA has decided that Chrysler has met its burden of persuasion that the subject FMVSS No. 110 labeling noncompliance is inconsequential to motor vehicle safety. Accordingly, Chrysler's petition is granted and the petitioner is exempted from the obligation of providing notification of, and a remedy for, the subject noncompliance under 49 U.S.C. 30118 and 30120.

Authority: 49 U.S.C. 30118, 30120; delegations of authority at 49 CFR 1.50 and 501.8.

Issued on: October 16, 2008.
Daniel C. Smith,
Associate Administrator for Enforcement.

[FR Doc. E8-25138 Filed 10-21-08; 8:45 am]

BILLING CODE 4910-59-P